SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(e)

1. Warrior Trail Properties, LLC; Project Schooner; ABR-202009005; Hazle Township, Luzerne County, Pa.; Consumptive Use of Up to 1.400 mgd; Approval Date: September 4, 2020.

Water Source Approval—Issued Under 18 CFR 806.22(f)

1. Chief Oil & Gas, LLC; Pad ID: Allen Drilling Pad #1; ABR-201009002.R2; Asylum Township, Bradford County, Pa.; Consumptive Use of Up to 2.0000 mgd; Approval Date: September 3, 2020.

2. Chesapeake Appalachia, L.L.C.; Pad ID: Alberta; ABR-201009007.R2; Albany Township, Bradford County, Pa.; Consumptive Use of Up to 7.50000 mgd; Approval Date: September 3, 2020.

3. Diversified Production, LLC; Pad ID: Phoenix C; ABR-201006114.R2; Duncan Township, Tioga County, Pa.; Consumptive Use of Up to 3.0000 mgd; Approval Date: September 3, 2020.

4. Blackhawk Energy LLC; Pad ID: Shannon Todd Pad A; ABR-201009006.R2; Todd Township, Huntingdon County, Pa.; Consumptive Use of Up to 3.0000 mgd; Approval Date: September 3, 2020.

5. ARD Operating, LLC; Pad ID: COP Tr 344 Pad A; ABR-20100694.R2; Noyes Township, Clinton County, Pa.; Consumptive Use of Up to 4.0000 mgd; Approval Date: September 3, 2020.

6. Rockdale Marcellus, LLC; Pad ID: Zeafla 747; ABR-20100682.R2; Jackson Township, Lycoming County, Pa.; Consumptive Use of Up to 4.9900 mgd; Approval Date: September 3, 2020.

7. ARD Operating, LLC; Pad ID: COP Tr 342 A; ABR-20100695.R2; Beech Creek Township, Clinton County, Pa.; Consumptive Use of Up to 4.0000 mgd; Approval Date: September 7, 2020.

8. XTO Energy, Inc.; Pad ID: MARQUARDT 8534H; ABR-20100664.R2; Penn Township, Lycoming County, Pa.; Consumptive Use of Up to 4.0000 mgd; Approval Date: September 8, 2020.

9. Seneca Resources Company, LLC; Pad ID: C09-J; ABR-201507002.R1; Shippen Township, Cameron County, Pa.; Consumptive Use of Up to 4.0000 mgd; Approval Date: September 8, 2020.

10. Chesapeake Appalachia, L.L.C.; Pad ID: Connell; ABR-201009084.R2; Cherry Township, Sullivan County, Pa.; Consumptive Use of Up to 7.50000 mgd; Approval Date: September 10, 2020.

11. Chesapeake Appalachia, L.LC.; Pad ID: Decker Farms; ABR-201009037.R2; Rush Township, Susquehanna County, Pa.; Consumptive Use of Up to 7.5000 mgd; Approval Date: September 10, 2020.

12. ARD Operating, LLC; Pad ID: Robert C. Ulmer Pad A; ABR-201007049.R2; Watson Township, Lycoming County, Pa.; Consumptive Use of Up to 4.0000 mgd; Approval Date: September 14, 2020.

13. Repsol Oil & Gas (USA), LLC; Pad ID: YURKANIN (03 014) J; Columbia Township, Bradford County, Pa.; Consumptive Use of Up to 7.5000 mgd; Approval Date: September 14, 2020.

14. ARD Operating, LLC; Pad ID: COP 551 Pad B; ABR-202009001; Cascade Township, Lycoming County, Pa.; Consumptive Use of Up to 4.0000 mgd; Approval Date: September 14, 2020.

15. ARD Operating, LLC; Pad ID: Chapman Bohlin Pad A; ABR-202009002; Cascade Township, Lycoming County, Pa.; Consumptive Use of Up to 4.0000 mgd; Approval Date: September 14, 2020.

16. Cabot Oil & Gas Corporation; Pad ID: RozellC P1; ABR-20100542.R2; Jessup Township, Susquehanna County, Pa.; Consumptive Use of Up to 5.0000 mgd; Approval Date: September 16, 2020.

17. Cabot Oil & Gas Corporation; Pad ID: HullR P2; ABR-20100612.R2; Springville Township, Susquehanna County, Pa.; Consumptive Use of Up to 5.0000 mgd; Approval Date: September 16, 2020.

18. LPR Energy, LLC; Pad ID: Shannon Land & Mining Drilling Pad #1; ABR-20100628.R2; Lawrence Township, Clearfield County, Pa.; Consumptive Use of Up to 2.0000 mgd; Approval Date: September 25, 2020.

19. ARD Operating, LLC; Pad ID: Ann M. Mercier Pad A; ABR-201007071.R2; Cogan House Township, Lycoming County, Pa.; Consumptive Use of Up to 4.0000 mgd; Approval Date: September 25, 2020.

20. LPR Energy, LLC; Pad ID: Lightner Drilling Pad #1; ABR-201007045.R2; Juniata Township, Blair County, Pa.; Consumptive Use of Up to 2.0000 mgd; Approval Date: September 28, 2020.

21. SWN Production Company, LLC; Pad ID: Robinson; ABR-20100653.R2; Stevens Township, Bradford County, Pa.; Consumptive Use of Up to 4.9990 mgd; Approval Date: September 28, 2020.

22. Cabot Oil & Gas Corporation.; Pad ID: Griffiths J P1; ABR-202009004; Rush Township, Susquehanna County, Pa.; Consumptive Use of Up to 5.0000 mgd; Approval Date: September 28, 2020.

Approvals By Rule—Revoked Under 18 CFR 806.22(f)

1. EQT Production Company; Pad ID: Phoenix B; ABR-201511003; Morris Township, Tioga County, Pa.; Revocation Date: September 22, 2020.

2. Rockdale Marcellus, LLC; Pad ID: Zeafla 747; ABR-20100682.R2; Jackson Township, Lycoming County, Pa.; Revocation Date: September 28, 2020.

Authority: Pub. L. 91-575, 84 Stat. 1509 et seq., 18 CFR parts 806, 807, and 808.

Dated: October 15, 2020.
Jason E. Oyler,
General Counsel and Secretary to the Commission.

[FR Doc. 2020-23171 Filed 10-19-20; 8:45 am]

BILLING CODE 7040-01-P